DEPARTMENT OF HEALTH AND HUMAN SERVICES

Notice of Availability: Test Tools and Test Procedures Approved for the Office of the National Coordinator for Health Information Technology (ONC) Temporary Certification Program

AGENCY: Office of the National Coordinator for Health Information Technology, Office of the Secretary, Department of Health and Human Services.

ACTION: Notice.

Authority: 42 U.S.C. 300jj-11.

SUMMARY: This notice announces the availability of test tools and test procedures approved by the National Coordinator for Health Information Technology (the National Coordinator) for the testing of Complete EHRs and/or EHR Modules by ONC-Authorized Testing and Certification Bodies (ONC-ATCBs) under the ONC temporary certification program. The approved test tools and test procedures are identified on the ONC Web site at: http://healthit.hhs.gov/certification.

FOR FURTHER INFORMATION CONTACT: Carol Bean, Director, Certification Division, Office of the National Coordinator for Health Information Technology, 202-690-7151.

SUPPLEMENTARY INFORMATION:

On June 24, 2010, the Department of Health and Human Services issued a final rule establishing a temporary certification program for the purposes of testing and certifying health information technology (“Establishment of the Temporary Certification Program for Health Information Technology,” 75 FR 36158) (Temporary Certification Program final rule).¹ The Temporary Certification Program final rule added a new “Subpart D—Temporary Certification Program for HIT” to part 170 of title 45 of the Code of Federal Regulations (CFR). Section 170.423(e) of Subpart D requires ONC-ATCBs to “[u]se test tools and test procedures approved by the National Coordinator for the purposes of assessing Complete EHRs and/or EHR Modules compliance with the certification criteria adopted by the Secretary.” The preamble of the Temporary Certification Program final rule stated that when the National Coordinator had approved test tools and/or test procedures ONC would publish a notice of availability in the Federal Register and identify the approved test tools and test procedures on the ONC Web site. As discussed in the Temporary Certification Program final rule, we anticipated that test tools and test procedures would not be finalized by the National Institute of Standards and Technology (NIST), and therefore unable to be considered for approval by the National Coordinator, until after the Secretary made publicly available a final rule for the initial set of standards, implementation specifications, and certification criteria for electronic health record technology.² This final rule, “Health Information Technology: Initial Set of Standards, Implementation Specifications, and Certification Criteria for Electronic Health Record Technology” (HIT Standards and Certification Criteria final rule) was made available for public inspection on July 13, 2010, and was published in the Federal Register on July 28, 2010.

¹ The Department issued a proposed rule entitled “Proposed Establishment of Certification Programs for Health Information Technology” (75 FR 11328, March 10, 2010) that proposed the establishment of a temporary certification program and a permanent certification program and stated the Department's intentions to issue separate final rules for each program.

² The “Health Information Technology: Initial Set of Standards, Implementation Specifications, and Certification Criteria for Electronic Health Record Technology” interim final rule was made available for public inspection on December 30, 2009, and published in the Federal Register on January 13, 2010 (75 FR 2014).

The National Coordinator has approved, for use by ONC-ATCBs in accordance with 45 CFR 170.423(e), test tools and test procedures developed by NIST for testing Complete EHRs and/or EHR Modules to the applicable certification criterion or criteria adopted by the Secretary in the HIT Standards and Certification Criteria final rule. These approved test tools and test procedures are identified on the ONC Web site at: http://healthit.hhs.gov/certification.

Dated: August 2, 2010.
David Blumenthal,
National Coordinator for Health Information Technology.

[FR Doc. 2010-19533 Filed 8-6-10; 8:45 am]

BILLING CODE 4150-45-P